DEPARTMENT OF COMMERCE

National Oceanic and Atmospheric Administration

RIN 0648-XM69

Fisheries in the Western Pacific; American Samoa Pelagic Longline Limited Entry Program

AGENCY: National Marine Fisheries Service (NMFS), National Oceanic and Atmospheric Administration (NOAA), Commerce.

ACTION: Notice; availability of permits.

SUMMARY: NMFS is soliciting applications for American Samoa pelagic longline limited entry permits. At least 22 permits of various class sizes will be available for 2009. Longline fishermen with the earliest documented participation on a Class A vessel (less than or equal to 40 feet (12.2 m) in length) have the highest priority to qualify for a permit. Fishermen with the earliest documented participation in larger size class vessels (in order of size) receive the next priority to qualify for permits. This notice is intended to announce the availability of permits and to solicit applications for the permits.

DATES: Completed permit applications must be received by NMFS by May 28, 2009.

ADDRESSES: Request blank application forms from NMFS Pacific Islands Region (PIR), 1601 Kapiolani Blvd., Suite 1110, Honolulu, HI 96814-4733, or the PIR website www.fpir.noaa.gov.

Mail completed applications and payment to NMFS PIR, ATTN: ASLE Permits, 1601 Kapiolani Blvd., Suite 1110, Honolulu, HI 96814-4733.

FOR FURTHER INFORMATION CONTACT: Walter Ikehara, Sustainable Fisheries, NMFS PIR, tel 808-944-2275, fax 808-973-2940, or e-mail PIRO-permits@noaa.gov.

SUPPLEMENTARY INFORMATION: On May 25, 2005, NMFS published a final rule that established a limited entry program for the pelagic longline fishery based in American Samoa (70 FR 29646). American Samoa longline limited entry permits were established for four vessel size classes, based on length:

a. Class A - less than or equal to 40 ft (12.2 m);

b. Class B (and B-1) - over 40 ft (12.2 m) to 50 ft (15.2 m) inclusive;

c. Class C (and C-1) - over 50 ft (15.2 m) to 70 ft (21.3 m) inclusive; and

d. Class D (and D-1) - over 70 ft (21.3 m).

A total of 60 initial American Samoa longline limited entry permits were issued: 22 in Class A, five in Class B, 12 in Class C, and 21 in Class D. These numbers represent the maximum number of vessels allowed in each size class, pursuant to the regulations implementing the limited entry program at title 50 of the Code of Federal Regulations, part 665.36 (i.e., 50 CFR 665.36). The limited entry program allows for new permits to be issued if the numbers of permits in each size class fall below the maximum. To date, not all permit holders have renewed their permits, invalidating those permits, and making 22 permits available for issuance (note that the number of available permits may change before the application period closes). Of the 22 available permits, thirteen are for vessel size Class A, four for Class B, four for Class C, and one for Class D.

Persons with the earliest documented participation in the fishery on a Class A sized vessel will receive the highest priority for obtaining permits in any size class, followed by persons with the earliest documented participation in Classes B, C, and D, in that order. If there is a tie in priority, the person with the second earliest documented participation will be ranked higher in priority.

Complete applications must include the completed and signed application form, legible copies of documents supporting historical participation in the American Samoa pelagic longline fishery, and payment for the non-refundable permit application processing fee, in accordance with the regulations at 50 CFR 665.13. Applications must be received by NMFS (see ADDRESSES) by May 28, 2009 to be considered for a permit; applications will not be accepted if received after that date.

Authoritative additional information on the American Samoa limited entry program may be found in 50 CFR part 665.

Authority: 16 U.S.C. 1801 et seq.

Dated: January 22, 2009.
Alan D. Risenhoover,
Director, Office of Sustainable Fisheries, National Marine Fisheries Service.

[FR Doc. E9-1727 Filed 1-27-09; 8:45 am]

BILLING CODE 3510-22-S